NATIONAL AERONAUTICS AND SPACE ADMINISTRATION

[Notice (05-033)]

Notice of Prospective Patent License

AGENCY: National Aeronautics and Space Administration.

ACTION: Notice of prospective patent license.

SUMMARY: NASA hereby gives notice that Every Little Bit, Inc., 1638 South Main, Tulsa, OK 74119, has applied for a Exclusive license to practice the inventions described in NASA Case Number LAR-16324-1 for which a U. S. Patent has issued and LAR-16324-2 for which a Patent Application was filed, both entitled “Self-Activating System And Method For Alerting When An Object Or A Person Is Left Unattended” and assigned to the United States of America as represented by the Administrator of the National Aeronautics and Space Administration. Written objections to the prospective grant of a license should be sent to Langley Research Center.

DATES: Responses to this notice must be received by March 17, 2005.

FOR FURTHER INFORMATION CONTACT: Kurt G. Hammerle, Patent Attorney, Langley Research Center, Mail Stop 141, Hampton, VA 23681-2199. Telephone 757-864-2470; Fax 757-864-9190.

Dated: February 17, 2005.
Keith T. Sefton,
Deputy General Counsel, Administration and Management.

[FR Doc. 05-4030 Filed 3-1-05; 8:45 am]

BILLING CODE 7510-13-P